DEPARTMENT OF HOMELAND SECURITY

Coast Guard

33 CFR Part 117

[Docket No. USCG-2011-0703]

Drawbridge Operation Regulation; Beaufort Channel, Beaufort, NC

AGENCY: Coast Guard, DHS.

ACTION: Notice of temporary deviation from regulations.

SUMMARY: The Commander, Fifth Coast Guard District, has issued a temporary deviation from the regulation governing the operation of the Grayden Paul Bridge across the Beaufort (Gallants) Channel, mile 0.1 at Beaufort, NC. The deviation is necessary to accommodate racing participants for the “Neuse Riverkeeper Foundation Sprint Triathlon”. This deviation allows the bridge to remain in the closed position during the race to ensure the safe and efficient passage of participants.

DATES: This deviation is effective from 11:30 a.m. to 1:30 p.m. on September 3, 2011.

ADDRESSES: Documents mentioned in this preamble as being available in the docket are part of docket USCG-2011-0703 and are available online by going to http://www.regulations.gov, inserting USCG-2011-0703 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lindsey Middleton, Coast Guard; telephone 757-398-6629, e-mail Lindsey.R.Middleton@uscg.mil. If you have questions on viewing the docket, call Renee V. Wright, Program Manager, Docket Operations, telephone 202-366-9826.

SUPPLEMENTARY INFORMATION: The Coastal Society, on behalf of the North Carolina Department of Transportation has requested a temporary deviation from the current operating regulations of the Grayden Paul Bridge, across the Beaufort (Gallants) Channel, mile 0.1, at Beaufort, NC. The bike route of the “Neuse Riverkeeper Foundation Sprint Triathlon” crosses the bridge and the requested deviation is to accommodate the participants. To facilitate this event, the draw of the bridge will be maintained in the closed-to-navigation position from 11:30 a.m. until 1:30 p.m. on Saturday, September 3, 2011.

The vertical clearance for this bridge in the closed position is 13 feet at Mean High Water and is limited to 77 feet in the open position due to the adjacent power lines. The operating regulations are set forth in 33 CFR 117.822 which states that the bridge shall open on the hour and on the half hour.

Vessels that can pass under the bridge in the closed position may do so at any time. The Coast Guard will inform the users of the waterway of the closure through our Local and Broadcast Notices to Mariners to minimize any impact caused by the temporary deviation. The bridge will be able to open for emergencies. This closure has been an annual closure for the past several years therefore there are no traffic logs with past openings for this time of year. Most of the vessel traffic consists of recreational and commercial fishing boats. Vessels can use the Intracoastal Waterway as an alternate route.

In accordance with 33 CFR 117.35(e), the drawbridge must return to its regular operating schedule immediately at the end of the designated time period. This deviation from the operating regulations is authorized under 33 CFR 117.35.

Dated: August 2, 2011.
Waverly W. Gregory, Jr.,
Bridge Program Manager, By Direction of the Commander, Fifth Coast Guard District.

[FR Doc. 2011-20373 Filed 8-10-11; 8:45 am]

BILLING CODE 9110-04-P